DEPARTMENT OF ENERGY

Federal Energy Regulatory Commission

[Project No. 10441-020]

City of Aspen, Colorado; Notice of Application Tendered for Filing With the Commission and Soliciting Additional Study Requests

Take notice that the following hydroelectric application has been filed with the Commission and is available for public inspection.

a. Type of Application: Exemption from Licensing.¹

¹ The applicant is an existing licensee for the project in which the license expires on June 30, 2028. The licensee is requesting a small hydropower exemption as an authorization to continue operating and maintaining the project after the license expires. The licensee states that should the project not qualify for a small hydropower exemption, the application should be considered a subsequent license application.

b. Project No.: 10441-020.

c. Date Filed: April 8, 2025.

d. Applicant: City of Aspen, Colorado.

e. Name of Project: Maroon Creek Hydroelectric Project.

f. Location: On Maroon Creek in Pitkin County, Colorado.

g. Filed Pursuant to: 18 CFR 16.22 and the Public Utility Regulatory Policies Act of 1978, 16 U.S.C. 2705, 2708, amended by the Hydropower Regulatory Efficiency Act of 2013, Public Law 113-23, 127 Stat. 493 (2013).

h. Applicant Contact: Phil Overenyder at City of Aspen at (970) 920-5111; or email at phil.overeynder@aspen.gov.

i. FERC Contact: Lee Baker at (202) 502-8554, or everard.baker@ferc.gov.

j. Cooperating Agencies: Federal, state, local, and Tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: July 7, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Maroon Creek Hydroelectric Project (P-10441-020).

m. The application is not ready for environmental analysis at this time.

n. The existing project works consist of: (a) a 10-foot-high, 40-foot-long reinforced concrete dam with a crest elevation of 8,245.75 feet (the Maroon Creek diversion dam); (b) a small impoundment; (c) an intake structure at the dam; (d) a 39-inch-diameter, 5,563-foot-long buried reinforced concrete penstock; (e) a 27-inch-diameter, 1,317-foot-long buried reinforced concrete penstock together with a 110-foot section of steel penstock leading to the powerhouse; (f) a powerhouse with a 450-kW turbine-generator unit; (g) a 200-foot-long trapezoidal open channel tailrace, returning the water to Maroon Creek; (h) a 0.48-kV generator leading to a three-phase, 0.48/24.9-kV step-up transformer; (i) an approximately 400-foot-long, 24.9-kV overhead power line tap connection to the Aspen Highlands circuit operated by Holy Cross Energy; and (j) appurtenant facilities.

The application describes the addition of up to 50 kW of generating capacity through two new small turbines, with two new attached generators placed at the existing diversion dam. These new units would generate power from the bypass flows released from the diversion dam without changing the time or the amount of those releases. Flows utilized by new generation equipment would be returned to the same location on the stream immediately below the dam and headgate.

o. A copy of the application can be viewed on the Commission's website at http://www.ferc.gov, using the “eLibrary” link. Enter the docket number, excluding the last three digits in the docket number field, to access the document (P-10441). For assistance, contact FERC at FERCOnlineSupport@ferc.gov, or call toll-free, (866) 208-3676 or (202) 502-8659 (TTY).

p. You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

q. Procedural schedule and final amendments: The application will be processed according to the following preliminary schedule. Revisions to the schedule will be made as appropriate.

Milestone | Target date
Issue Deficiency Letter and Additional Information Request (if necessary) | June 2025.
Issue Acceptance Letter | September 2025.
Issue Scoping Document 1 for comments | October 2025.
Issue Scoping Document 2 (if necessary) | January 2026.
Issue Notice of Ready for Environmental Analysis | January 2026.

Final amendments to the application must be filed with the Commission no later than 30 days from the issuance date of the notice of ready for environmental analysis.

Dated: May 6, 2025.
Debbie-Anne A. Reese,
Secretary.

[FR Doc. 2025-08293 Filed 5-9-25; 8:45 am]

BILLING CODE 6717-01-P